DEPARTMENT OF TRANSPORTATION

Federal Aviation Administration

14 CFR Part 39

[Docket No. FAA-2007-28996; Directorate Identifier 2006-NM-217-AD]

RIN 2120-AA64

Airworthiness Directives; Airbus Model A310 Series Airplanes

AGENCY: Federal Aviation Administration (FAA), Department of Transportation (DOT).

ACTION: Notice of proposed rulemaking (NPRM).

SUMMARY: The FAA proposes to adopt a new airworthiness directive (AD) for all Airbus Model A310 series airplanes. This proposed AD would require revising the Airworthiness Limitations section of the Instructions for Continued Airworthiness to incorporate new and revised structural inspections and inspection intervals. This proposed AD results from issuance of new and revised structural inspections and inspection intervals. We are proposing this AD to detect and correct fatigue cracking, which could result in reduced structural integrity of the airplane.

DATES: We must receive comments on this proposed AD by September 17, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “FAA-2007-28996; Directorate Identifier 2006-NM-217-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the DOT street address stated in the ADDRESSES section. Comments will be available in the AD docket shortly after the Docket Management System receives them.

Discussion

The European Aviation Safety Agency (EASA), which is the Technical Agent for the Member States of the European Community, notified us that an unsafe condition may exist on all Airbus Model A310 series airplanes. The EASA advises that Airbus has issued new and revised structural inspections and inspection intervals to detect and correct fatigue cracking. This condition, if not corrected, could result in reduced structural integrity of the airplane.

Relevant Service Information

Airbus has issued A310 Airworthiness Limitation Items (ALI) Document, AI/SE-M2/95A.0263/06, Issue 6, dated April 2006 (approved by the EASA on May 31, 2006) (hereafter referred to as “Issue 6 of the ALI”). That ALI document describes fatigue-related structural inspections arising from the evaluation of damage tolerance and widespread fatigue damage.

Airbus has also issued Temporary Revision (TR) 6.1, dated November 2006 (approved by the EASA on December 12, 2006), to Issue 6 of the ALI. Airbus TR 6.1 provides new and revised inspections to address certification of the new Model A310-300 weight variant airplanes (Airbus Modification 13302). The applicability, limit of validity, program rules, program notes, and definitions stated in Issue 6 of the ALI remain valid.

Accomplishing the actions specified in the service information is intended to adequately address the unsafe condition. The EASA mandated the service information and issued airworthiness directive 2006-0260, dated August 25, 2006, to ensure the continued airworthiness of these airplanes in the European Union.

FAA's Determination and Requirements of the Proposed AD

This airplane model is manufactured in France and is type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require revising the Airworthiness Limitations section (ALS) of the Instructions for Continued Airworthiness (ICA) to incorporate new and revised structural inspections and inspection intervals. The proposed AD would also require sending certain inspection results to Airbus.

Differences Between the Proposed AD and the EASA Airworthiness Directive

Paragraph 1 of EASA airworthiness directive 2006-0260 specifies to adhere to the requirements defined in Issue 4, 5, or 6 of the A310 ALI Document, prior to the effective date of EASA airworthiness directive 2006-0260. This proposed AD, instead, would require revising the ALS of the ICA by incorporating Issue 6 of the ALI within 3 months after the effective date.

Although paragraph 2 of EASA airworthiness directive 2006-0260 mandates only Issue 6 of the ALI, this proposed AD would require incorporating both Issue 6 of the ALI and Airbus TR 6.1 into the FAA-approved maintenance program. Airbus issued TR 6.1 after issuance of EASA airworthiness directive 2006-0260. We have coordinated this difference with the EASA.

Costs of Compliance

This proposed AD would affect about 69 airplanes of U.S. registry. The proposed actions would take about 2 work hours per airplane, at an average labor rate of $80 per work hour. Based on these figures, the estimated cost of the proposed AD for U.S. operators is $11,040, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2007-28996; Directorate Identifier 2006-NM-217-AD.

Comments Due Date

(a) The FAA must receive comments on this AD action by September 17, 2007.

Affected ADs

(b) None.

Applicability

(c) This AD applies to all Airbus Model A310 series airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25.1529-1.

Unsafe Condition

(d) This AD results from issuance of new and revised structural inspections and inspection intervals. We are issuing this AD to detect and correct fatigue cracking, which could result in reduced structural integrity of the airplane.

Compliance

(e) You are responsible for having the actions required by this AD performed within the compliance times specified, unless the actions have already been done.

Revision of Airworthiness Limitations Section (ALS) of the Instructions for Continued Airworthiness (ICA)

(f) Within 3 months after the effective date of this AD, do the actions specified in paragraphs (f)(1) and (f)(2) of this AD.

(1) Revise the ALS of the ICA to incorporate the structural inspections and inspection intervals defined in Airbus A310 Airworthiness Limitations Items (ALI) Document, AI/SE-M2/95A.0263/06, Issue 6, dated April 2006 (approved by the EASA on May 31, 2006) (hereafter referred to as “Issue 6 of the ALI”). Accomplish the actions specified in Issue 6 of the ALI at the times specified in that ALI, except as provided by paragraph (g) of this AD. Thereafter, except as provided by paragraphs (f)(2) and (j) of this AD, no alternative structural inspection intervals may be approved. The actions specified in Issue 6 of the ALI must be accomplished in accordance with Issue 6 of the ALI.

(2) Revise the ALS of the ICA to incorporate the new and revised structural inspections and inspection intervals defined in Airbus Temporary Revision (TR) 6.1, dated November 2006 (approved by the EASA on December 12, 2006), to Issue 6 of the ALI. Thereafter, except as provided by paragraph (j) of this AD, no alternative structural inspection intervals may be approved.

Exception to Issue 6 of the ALI

(g) The tolerance (grace period) for compliance with Issue 6 of the ALI is within 1,500 flight cycles after the effective date of this AD provided that none of the following is exceeded:

(1) Thresholds or intervals in the operator's current approved maintenance schedule that are taken from a previous ALI issue, if existing, and are higher than or equal to those given in Issue 6 of the ALI.

(2) 18 months after the effective date of this AD.

(3) 50 percent of the intervals given in Issue 6 of the ALI.

(4) Any application tolerance specified in Section D of Issue 6 of the ALI.

Corrective Actions

(h) Damaged, cracked, or corroded structure detected during any inspection done in accordance with Issue 6 of the ALI must be repaired, before further flight, in accordance with Issue 6 of the ALI; or in accordance with other data meeting the certification basis of the airplane that has been approved by either the Manager, International Branch, ANM-116, Transport Airplane Directorate, FAA, or the EASA (or its delegated agent). Where Issue 6 of the ALI specifies to contact Airbus for appropriate action: Before further flight, repair the damaged, cracked, or corroded structure using a method approved by either the Manager, International Branch, ANM-116, or the EASA (or its delegated agent).

Reporting Requirement

(i) If any damage that exceeds the allowable limits specified in Issue 6 of the ALI is detected during any inspection required by this AD: At the applicable time specified in paragraph (i)(1) or (i)(2) of this AD, submit a report of the finding to Sebastien Aveilla, Airbus, 1 Rond Point Maurice Bellonte, 31707 Blagnac Cedex, France; fax +33 (0) 5 61-93-28-72; e-mail sebastien.aveilla@airbus.com. The report must include the ALI task reference, airplane serial number, the number of flight cycles and flight hours on the airplane, identification of the affected structure, location and description of the finding including its size and orientation, and the circumstance of detection and inspection method used. Under the provisions of the Paperwork Reduction Act (44 U.S.C. 3501 et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Alternative Methods of Compliance (AMOCs)

(j)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) EASA airworthiness directive 2006-0260, dated August 25, 2006, also addresses the subject of this AD.

Issued in Renton, Washington, on August 2, 2007.
Ali Bahrami,
Manager, Transport Airplane Directorate, Aircraft Certification Service.

[FR Doc. E7-16118 Filed 8-15-07; 8:45 am]

BILLING CODE 4910-13-P